DEPARTMENT OF THE INTERIOR

National Park Service

Notice of Intent to Repatriate Cultural Items: Rochester Museum & Science Center, Rochester, NY

AGENCY: National Park Service, Interior.

ACTION: Notice.

Notice is here given in accordance with the Native American Graves Protection and Repatriation Act (NAGPRA), 25 U.S.C. 3005, of the intent to repatriate cultural items in the possession of the Rochester Museum & Science Center, Rochester, NY, that meet the definitions of “sacred objects” and “objects of cultural patrimony” under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1929, the museum purchased two small wooden medicine faces from Alvin Dewey, Rochester, NY. On March 25, 1922, Alvin Dewey obtained them from Albert G. Heath, Chicago, IL. The first medicine face measures 2 3/4” inches long (AE 2880/D 10922/29.259.27). The second medicine face is a small wooden “Leader's” face that measures 2 7/8” long (AE 2881/D 11923/29.259.28). According to the documentation, these were individually tied to poles “and carried by the Leader in the Seneca False Face Ceremonies.”

Museum documentation indicates that these medicine faces are culturally affiliated with the “Seneca.” NAGPRA representative consultants from the Tonawanda Seneca Nation informed the Rochester Museum & Science Center that ethnographic objects identified as “Seneca” should go back to them because the Tonawanda Seneca Nation is the center of the Seneca religious fire. This was agreed upon by representatives from the Seneca Nation of New York, the Tonawanda Band of Seneca Indians of New York, and the Seneca-Cayuga Tribe of Oklahoma.

Tonawanda Seneca Nation traditional religious leaders have identified these medicine faces as being needed for the practice of traditional Native American religions by present-day adherents. During consultation, it was shown that individuals who carved a face did not have the authority to alienate it to a third party or sell it indirectly to the Rochester Museum & Science Center. Therefore, based on consultation with NAGPRA representatives from the Tonawanda Seneca Nation and other Haudenosaunee and non-Haudenosaunee consultants, the museum has determined that the medicine faces are both sacred objects and objects of cultural patrimony.

Officials of the Rochester Museum & Science Center have determined, that pursuant to 25 U.S.C. 3001(3)(C), the two cultural items described above are specific ceremonial objects needed by traditional Native American religious leaders for the practice of traditional Native American religions by their present-day adherents. Officials of the Rochester Museum & Science Center have also determined that, pursuant to 25 U.S.C. 3001(3)(D), the two cultural items described above have an ongoing historical, traditional, or cultural importance central to the Native American group or culture itself, rather than property owned by an individual. Lastly, officials of the Rochester Museum & Science Center have determined that, pursuant to 25 U.S.C. 3001(2), there is a relationship of shared group identity that can be reasonably traced between the sacred objects/objects of cultural patrimony and the Tonawanda Band of Seneca Indians of New York.

Representatives of any other Indian Nation or tribe that believes itself to be culturally affiliated with the sacred objects/objects of cultural patrimony should contact Adele DeRosa, NAGPRA Coordinator/Collections Manager, Rochester Museum & Science Center, 657 East Ave., Rochester, NY 14607, telephone (585) 271-4552, ext 302, before June 3, 2010. Repatriation of the sacred objects/objects of cultural patrimony to the Tonawanda Band of Seneca Indians of New York may proceed after that date if no additional claimants come forward.

The Rochester Museum & Science Center is responsible for notifying the Seneca Nation of New York, Seneca-Cayuga Tribe of Oklahoma, and Tonawanda Band of Seneca Indians of New York that this notice has been published.

Dated: April 12, 2010.
Sherry Hutt,
Manager, National NAGPRA Program.

[FR Doc. 2010-10368 Filed 5-3-10; 8:45 am]

BILLING CODE 4312-50-S